DEPARTMENT OF ENERGY

Federal Energy Regulatory Commission

[Docket Nos. CP21-1-000; CP21-458-000]

Golden Pass Pipeline, LLC; Notice of Availability of the Draft Environmental Impact Statement for the Proposed MP66-69 Compression Relocation and Modification Amendment and the Proposed MP33 Compressor Station Modification Amendment

The staff of the Federal Energy Regulatory Commission (FERC or Commission) has prepared a draft environmental impact statement (EIS) for the MP66-69 Compression Relocation and Modification Amendment and the MP33 Compressor Station Modification Amendment Project (Project), proposed by Golden Pass Pipeline Company, LLC (Golden Pass) in the above referenced dockets.

Golden Pass requests authorization to amend its certificate of public convenience and necessity for the Pipeline Expansion Project (Docket No. CP14-518-000) that was issued by the Commission on December 21, 2016. Golden Pass requests authorization to modify the previously authorized facilities in Calcasieu Parish, Louisiana and Orange County, Texas.

The draft EIS assesses the potential environmental effects of the construction and operation of the Project in accordance with the requirements of the National Environmental Policy Act (NEPA). With the exception of climate change impacts, the FERC staff concludes that approval of the proposed Project, with the mitigation measures recommended in this EIS, would not result in significant environmental impacts. FERC staff is unable to determine significance with regards to climate change impacts.

The draft EIS incorporates by reference the Commission staff's July 2016 Final Environmental Impact Statement (FEIS) issued in Docket No. CP14-517-000 and CP14-518-000 for the Golden Pass LNG Export Project (2016 FEIS) and the Commission's findings and conclusions in its December 21, 2016 Order.¹ The draft EIS addresses the potential environmental effects of the construction and operation of the following Project facilities:

¹ 40 CFR 1501.7.

CP21-1-000 (Calcasieu Parish, Louisiana)

• Relocate the approved Compressor Station at Milepost (MP) 66 approximately three miles, to MP69;

• increase the amount of compression at the relocated compressor station;

• eliminate approved modifications to interconnects at MP63 and MP66;

• minor changes to approved interconnect modifications at MP68; and

• eliminate the previously approved 3 miles of 24-inch diameter pipeline loop between MP66 and MP69.

CP21-458-000 (Orange County, Texas)

• Relocate the MP33 Compressor Station approximately fifty feet north-northwest to avoid an existing pipeline right-of-way based on a landowner request;

• increase the authorized compression at the MP33 Compressor Station;

• construct three new interconnects and appurtenant facilities adjacent to the MP33 Compressor Station; and

• eliminate receipt stations at the existing Texoma delivery interconnect on Golden Pass's existing system at MP33.

The Commission mailed a copy of the Notice of Intent to federal, state, and local government representatives and agencies; elected officials; environmental and public interest groups; Native American tribes; potentially affected landowners and other interested individuals and groups; and newspapers and libraries in the project area. The draft EIS is only available in electronic format. It may be viewed and downloaded from the FERC's website (www.ferc.gov), on the natural gas environmental documents page (https://www.ferc.gov/industries-data/natural-gas/environment/environmental-documents). In addition, the draft EIS may be accessed by using the eLibrary link on the FERC's website. Click on the eLibrary link (https://elibrary.ferc.gov/eLibrary/search) select “General Search” and enter the docket number in the “Docket Number” field, excluding the last three digits (i.e., CP21-1 or CP21-458). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on draft EIS's disclosure and discussion of potential environmental effects, measures to avoid or lessen environmental impacts, and the completeness of the submitted alternatives, information and analyses. To ensure consideration of your comments on the proposal in the final EIS, it is important that the Commission receive your comments on or before 5:00 p.m. Eastern Time on April 4, 2022.

For your convenience, there are three methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

(1) You can file your comments electronically using the eComment feature on the Commission's website (www.ferc.gov) under the link to FERC Online. This is an easy method for submitting brief, text-only comments on a project;

(2) You can file your comments electronically by using the eFiling feature on the Commission's website (www.ferc.gov) under the link to FERC Online. With eFiling, you can provide comments in a variety of formats by attaching them as a file with your submission. New eFiling users must first create an account by clicking on “eRegister.” If you are filing a comment on a particular project, please select “Comment on a Filing” as the filing type; or

(3) You can file a paper copy of your comments by mailing them to the Commission. Be sure to reference the project docket number (CP21-1-000 or CP21-458-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

Any person seeking to become a party to the proceeding must file a motion to intervene pursuant to Rule 214 of the Commission's Rules of Practice and Procedures (18 CFR part 385.214). Motions to intervene are more fully described at https://www.ferc.gov/ferc-online/ferc-online/how-guides. Only intervenors have the right to seek rehearing or judicial review of the Commission's decision. The Commission grants affected landowners and others with environmental concerns intervenor status upon showing good cause by stating that they have a clear and direct interest in this proceeding which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: February 11, 2022.
Kimberly D. Bose,
Secretary.

[FR Doc. 2022-03427 Filed 2-16-22; 8:45 am]

BILLING CODE 6717-01-P